DEPARTMENT OF HEALTH AND HUMAN SERVICES

National Institutes of Health

Center for Scientific Review; Amended Notice of Meeting

Notice is hereby given of a change in the meeting of the Center for Scientific Review Special Emphasis Panel, May 26, 2011, 8 a.m. to May 26, 2011, 5 p.m., National Institutes of Health, 6701 Rockledge Drive, Bethesda, MD 20892 which was published in the Federal Register on April 22, 2011, 76 FR 22716.

The meeting title has been changed to “Member Conflict: Kidney and Urology”. The meeting is closed to the public.

Dated: April 28, 2011.
Jennifer S. Spaeth,
Director, Office of Federal Advisory Committee Policy.

[FR Doc. 2011-11031 Filed 5-4-11; 8:45 am]

BILLING CODE 4140-01-P